DEPARTMENT OF AGRICULTURE

Forest Service

Uinta-Wasatch Cache Resource Advisory Committee

AGENCY: Forest Service, USDA.

ACTION: Notice of meeting; correction.

SUMMARY: The Forest Service published a document in the Federal Register of May 19, 2014, concerning a notice soliciting nominations to the Uinta-Wasatch Cache Resource Advisory Committee. The document contained an incorrect date.

FOR FURTHER INFORMATION CONTACT: Loyal Clark, RAC Coordinator, by phone at 801-999-2113 or via email at lfclark@fs.fed.us.

Correction

In the Federal Register of May 19, 2014, in FR Doc . 2014-11548, on page 28671, in the third column, correct the DATES caption to read: Nominations must be received on or before June 27, 2014.

Dated: May 29, 2014.
David C. Whittekiend,
Forest Supervisor.

[FR Doc. 2014-13054 Filed 6-4-14; 8:45 am]

BILLING CODE 3410-11-P